DEPARTMENT OF ENERGY

National Quantum Initiative Advisory Committee

AGENCY: Office of Science, Department of Energy.

ACTION: Notice of open meeting.

SUMMARY: This notice announces a meeting of the National Quantum Initiative Advisory Committee (NQIAC). The Federal Advisory Committee Act requires that public notice of these meetings be announced in the Federal Register.

DATES: Tuesday, October 27, 2020; 9:00 a.m. to 3:00 p.m. PDT.

ADDRESSES: Virtual Meeting: Instructions to participate remotely will be posted on the National Quantum Initiative Advisory Committee website at: (https://science.osti.gov/About/NQIAC) prior to the meeting and can also be obtained by contacting Karen Talamini, (301) 903-4563, or email: NQIAC@science.doe.gov.

FOR FURTHER INFORMATION CONTACT: Altaf Carim, Designated Federal Officer, NQIAC, (301) 903-9564 or email: NQIAC@science.doe.gov.

SUPPLEMENTARY INFORMATION:

Purpose of the Committee: The NQIAC has been established to provide advice and guidance on a continuing basis to the President, the Secretary of Energy, and the National Science and Technology Council Subcommittee on Quantum Information Science (QIS), the National Quantum Initiative (NQI) program, and on trends and developments in quantum information science and technology, in accordance with the National Quantum Initiative Act (Pub. L. 115-368) and Executive Order 13885.

Tentative Agenda: Member introductions; Federal Advisory Committee Act (FACA) expectations; Summary of NQI program and U.S. coordination history; National strategy for QIS; Agency updates on NQI program; Strategic imperatives and NQIAC activity.

Public Participation: It is the policy of the NQIAC to accept written public comments no longer than 5 pages and to accommodate oral public comments whenever possible. The NQIAC expects that public statements presented at its meetings will not be repetitive of previously submitted oral or written statements. The public comment period for this meeting will take place on October 27, 2020, at a time specified in the meeting agenda. This public comment period is designed only for substantive commentary on NQIAC's work, not for business marketing purposes.

Oral Comments: To be considered for the public speaker list at the meeting, interested parties should register to speak at NQIAC@science.doe.gov, no later than 12:00 p.m. Eastern Time on October 19, 2020. To accommodate as many speakers as possible, the time for public comments will be limited to three (3) minutes per person, with a total public comment period of up to 15 minutes. If more speakers register than there is space available on the agenda, NQIAC will select speakers on a first-come, first-served basis from those who applied. Those not able to present oral comments may always file written comments with the committee.

Written Comments: Although written comments are accepted continuously, written comments relevant to the subjects of the meeting should be submitted to NQIAC@science.doe.gov no later than 12:00 p.m. Eastern Time on October 19, 2020, so that the comments may be made available to the NQIAC members prior to this meeting for their consideration.

Please note that because NQIAC operates under the provisions of FACA, all public comments and related materials will be treated as public documents and will be made available for public inspection, including being posted on the NQIAC website.

Minutes: The minutes of this meeting will be available on the National Quantum Initiative Advisory Committee website at: https://science.osti.gov/About/NQIAC.

Signed in Washington, DC, on September 29, 2020.
LaTanya Butler,
Deputy Committee Management Officer.

[FR Doc. 2020-21934 Filed 10-2-20; 8:45 am]

BILLING CODE 6450-01-P